FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Application for a Foreign Organization to Acquire a U.S. Bank or Bank Holding Company (FR Y-3F; OMB No. 7100-0119).

DATES: The revisions are effective as of August 28, 2024.

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above. On the page displayed at the link above, you can find the supporting information by referencing the collection identifier, FR Y-3F.

Final Approval Under OMB Delegated Authority of the Extension for Three Years, With Revision, of the Following Information Collection

Collection title: Application for a Foreign Organization to Acquire a U.S. Bank or Bank Holding Company.

Collection identifier: FR Y-3F.

OMB control number: 7100-0119.

General description of collection: Under the Bank Holding Company Act of 1956, any company, including a company organized under the laws of a foreign country, that seeks to acquire a U.S. bank or bank holding company must receive approval from the Board prior to doing so. The Federal Reserve uses the information collected by the FR Y-3F to determine whether to approve an application for prior approval and, subsequently, to carry out its supervisory responsibilities with respect to the foreign banking organization's operations in the United States.

Frequency: Event-generated.

Respondents: Any company organized under the laws of a foreign country that seeks to acquire a U.S. bank or bank holding company.

Total estimated number of respondents: 1.

Total estimated change in burden: 0.

Total estimated annual burden hours: 92.

Current actions: On April 30, 2024, the Board published a notice in the Federal Register (89 FR 34245) requesting public comment for 60 days on the extension, with revision, of the FR Y-3F. The Board proposed to revise the FR Y-3F to add a question regarding the integration of the target into the applicant; update or add certain citations and references; remove the sample publication from the instructions; and add a clarifying footnote regarding the Interagency Biographical and Financial Reports. The comment period for this notice expired on July 1, 2024. The Board did not receive any comments. The revisions will be implemented as proposed.

Board of Governors of the Federal Reserve System, July 24, 2024.
Michele Taylor Fennell,
Deputy Associate Secretary of the Board.

[FR Doc. 2024-16599 Filed 7-26-24; 8:45 am]

BILLING CODE 6210-01-P